DEPARTMENT OF DEFENSE

Department of the Army

Finding of No Significant Impact and Final Programmatic Environmental Assessment for Army 2020 Force Structure Realignment

AGENCY: Department of the Army, DoD.

ACTION: Notice of Availability.

SUMMARY: The Department of the Army announces the availability of the Finding of No Significant Impact (FNSI) for implementation of force structure realignment to reduce the Army active duty end-strength from 562,000 at the end of Fiscal Year (FY) 2012 to 490,000 by FY 2020. After reviewing the Final Programmatic Environmental Assessment for Army 2020 Force Structure Realignment (PEA), supporting studies, and comments received during the public review period, the Deputy Chief of Staff of the Army, G-3/5/7 has signed the FNSI that concluded there will be no significant environmental impacts, other than socioeconomic, likely to result from implementation of either of the analyzed alternatives. Although there could be significant socioeconomic impacts, these alone do not require the preparation of an Environmental Impact Statement; therefore, one will not be prepared.

An electronic version of the FNSI and PEA is available for download at http://aec.army.mil/usaec/nepa/topics00.html.

FOR FURTHER INFORMATION CONTACT: (210) 466-1590 or email: USARMY.JBSA.AEC.MBX@mail.mil.

Brenda S. Bowen,
Army Federal Register Liaison Officer.

[FR Doc. 2013-08615 Filed 4-11-13; 8:45 am]

BILLING CODE 3710-08-P